DEPARTMENT OF HEALTH AND HUMAN SERVICES

Centers for Disease Control and Prevention

[30Day-24-23GC]

Agency Forms Undergoing Paperwork Reduction Act Review

In accordance with the Paperwork Reduction Act of 1995, the Centers for Disease Control and Prevention (CDC) has submitted the information collection request titled “NCEZID Rapid Message Testing & Development System” to the Office of Management and Budget (OMB) for review and approval. CDC previously published a “Proposed Data Collection Submitted for Public Comment and Recommendations” notice on June 16, 2023 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Rapid Message Testing & Development System—New—National Center for Emerging and Zoonotic Infectious Diseases (NCEZID), Centers for Disease Control and Prevention (CDC).

Background and Brief Description

CDC's National Center for Emerging and Zoonotic Infectious Diseases (NCEZID) offers numerous powerful resources to anticipate, prevent, and address outbreaks of infectious diseases. From researchers to emergency responders; from laboratories to surveillance of mobile populations; from collaborations at the federal level to partnerships at the local level, NCEZID keeps people safe from threats like anthrax, Ebola virus, Zika virus, sepsis, mpox, and foodborne illnesses like Salmonella. These efforts are vital to protect and save lives. The ability to effectively communicate with the public about these threats is one of NCEZID's most vital roles. Particularly during an outbreak, it is critical that the public understands what is happening and why, and trusts and follows public health leaders' guidance. Recent public health responses to COVID-19 and mpox have underscored the need to improve the speed and content of health communications, particularly among populations at higher risk for zoonotic and infectious diseases.

This Rapid Message Testing & Message Development System will enable NCEZID to collect information vital to the development of clear, salient, relevant, appealing, and persuasive messages related to outbreaks and other emerging and zoonotic diseases. The System will also allow for the relatively rapid testing of messages when the need arises within the Center, prior to the dissemination of those messages and associated communications materials. The data collection is intended to ensure NCEZID messages are clear, salient, appealing, and persuasive to target audiences. Data will guide revisions to existing or draft messages, inform the development of new messages, and otherwise enable message developers to make optimal decisions about message content, format, and dissemination so that NCEZID's messages effectively reach and resonate with their intended audiences. Data collection methods proposed for this system include in-depth interviews, online or in-person focus groups, and online surveys.

CDC requests OMB approval for an estimated 3,431 annualized burden hours. There is no cost to respondents other than their time to participate.

Estimated Annualized Burden Hours
Type of respondents | Form name | Number of respondents | Number of responses per respondent | Average burden per response (in hours)
Online surveys (general public) | Content question bank | 10,000 | 1 | 10/60
Online in-depth interview screening (healthcare and specialty audiences) | Screening question bank | 720 | 1 | 5/60
Online in-depth interviews (healthcare and specialty audiences) | Content question bank | 72 | 1 | 1
Online focus group screening (general public) | Screening question bank | 2,880 | 1 | 5/60
Online focus groups (general public) | Content question bank | 288 | 1 | 2
Online focus group screening (healthcare and specialty audiences) | Screening question bank | 2,880 | 1 | 5/60
Online focus groups (healthcare and specialty audiences) | Content question bank | 288 | 1 | 2

Jeffrey M. Zirger,
Lead, Information Collection Review Office, Office of Public Health Ethics and Regulations, Office of Science, Centers for Disease Control and Prevention.

[FR Doc. 2023-26081 Filed 11-24-23; 8:45 am]

BILLING CODE 4163-18-P